DEPARTMENT OF COMMERCE

National Oceanic and Atmospheric Administration

RIN 0648-XF00

Marine Mammals; File No. 642-1536-03

AGENCY: National Marine Fisheries Service (NMFS), National Oceanic and Atmospheric Administration (NOAA), Commerce.

ACTION: Notice; withdrawal of application.

SUMMARY: Notice is hereby given that Joseph R. Mobley, Ph.D., University of Hawaii at Manoa, 2528 McCarthy Mall, Webster 404, Honolulu, HI 96822 has withdrawn his application for an amendment to his existing scientific research permit.

ADDRESSES: The documents related to this action are available for review upon written request or by appointment in the following offices:

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)973-2935; fax (808)973-2941.

FOR FURTHER INFORMATION CONTACT: Kate Swails or Amy Hapeman, (301)713-2289.

SUPPLEMENTARY INFORMATION: On June 4, 2007 a notice was published in the Federal Register (72 FR 30775) that an application had been filed by Dr. Mobley for an amendment to Permit No. 642-1536.

Permit No. 642-1536 authorizes the permit holder to conduct aerial and vessel-based research, including surface and underwater photography/videography for identification and sex verification, on North Pacific humpback whales (Megaptera novaeangliae) and several other species of cetaceans in Hawaiian waters.

The withdrawn amendment request was for authorization to use sound playback on up to 250 humpback whales annually in the waters off West Maui and possibly other inshore areas among the main Hawaiian Islands. After completing revisions the applicant plans to resubmit the application at a later date.

Dated: January 9, 2008.
P. Michael Payne,
Chief, Permits, Conservation and Education Division,Office of Protected Resources, National Marine Fisheries Service.

[FR Doc. E8-556 Filed 1-14-08; 8:45 am]

BILLING CODE 3510-22-S